ENVIRONMENTAL PROTECTION AGENCY

[FRL OP-OFA-043]

Environmental Impact Statements; Notice of Availability

Responsible Agency: Office of Federal Activities, General Information 202-564-5632 or https://www.epa.gov/nepa.

Weekly receipt of Environmental Impact Statements (EIS)

Filed October 31, 2022 10 a.m. EST Through November 4, 2022 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20220160, Draft, FERC, ND, Wahpeton Expansion Project, Comment Period Ends: 12/27/2022, Contact: Office of External Affairs 866-208-3372.

EIS No. 20220161, Draft, APHIS, NAT, The State University of New York College of Environmental Science and Forestry Petition (19-309-01p) for Determination of Nonregulated Status for Blight-Tolerant Darling 58 American Chestnut (Castanea dentata), Comment Period Ends: 12/27/2022, Contact: Cindy Eck 301-851-3892.

EIS No. 20220162, Draft, USDA, OR, Predator Damage Management in Oregon, Comment Period Ends: 12/27/2022, Contact: Kevin Christensen 503-820-2751.

EIS No. 20220163, Draft, TxDOT, TX, Loop 9 Segment A, Comment Period Ends: 01/03/2023, Contact: Doug Booher 512-416-2663.

Amended Notice

EIS No. 20220139, Draft Supplement, USCG, MARAD, TX, Texas Gulflink Deepwater Port License Application, Comment Period Ends: 11/30/2022, Contact: Patrick Clark 202-372-1358.

Revision to FR Notice Published 09/30/2022; Extending the Comment Period from 11/14/2022 to 11/30/2022.

Dated: November 4, 2022.
Cindy S. Barger,
Director, NEPA Compliance Division, Office of Federal Activities.

[FR Doc. 2022-24552 Filed 11-9-22; 8:45 am]

BILLING CODE 6560-50-P